FEDERAL MARITIME COMMISSION

[Petition No. P1-16]

Petition of COSCO Container Lines Company Limited for an Exemption From Commission Regulations; Notice of Filing and Request for Comments

This is to provide notice of filing and to invite comments on or before February 12, 2016, with regard to the Petition described below.

COSCO Container Lines Company Limited (“COSCON”) (Petitioner), has petitioned the Commission pursuant to 46 CFR 502.76 of the Commission's Rules of Practice and Procedure, for an exemption from the Commission's rules requiring individual service contract amendments, 46 CFR 530.10. Specifically, Petitioner explains that “[o]n or about March 1, 2016, COSCON will acquire by time charter the containerships and certain other assets of China Shipping Container Lines Co. (“China Shipping”)” and, as such, requests that the Commission permit the submission of a “universal notice to the Commission and to the service contract parties” instead of filing an amendment for each of the seven hundred (700) service contracts that will be assigned to COSCON. In addition COSCON proposes to send electronic notice to each shipper counter party. Because China Shipping tariffs will be taken over by COSCON and renumbered and republished, COSCON also seeks a waiver to avoid amending each contract with the new tariff number, by publishing a notice of the change in the existing China Shipping and COSCON tariffs.

The Petition in its entirety is posted on the Commission's Web site at http://www.fmc.gov/p1-16. Comments filed in response to this Petition will be posted on the Commission's Web site at this location.

In order for the Commission to make a thorough evaluation of the Petition, interested persons are requested to submit views or arguments in reply to the Petition no later than February 12, 2016. Commenters must send an original and 5 copies to the Secretary, Federal Maritime Commission, 800 North Capitol Street NW., Washington, DC 20573-0001, and be served on Petitioner's counsel, Robert B. Yoshitomi, or Eric C. Jeffrey, Nixon Peabody LLP, 799 9th Street NW., Washington, DC 20001. A PDF copy of the reply must also be sent as an attachment to Secretary@fmc.gov. Include in the email subject line “Petition No P1-16.”

Karen V. Gregory,
Secretary.

[FR Doc. 2016-01579 Filed 1-26-16; 8:45 am]

BILLING CODE 6731-AA-P